DEPARTMENT OF COMMERCE

Foreign-Trade Zones Board

Docket T-5-2006

Foreign-Trade Zone 196 - Fort Worth, Texas, Application for Temporary/Interim Manufacturing Authority, Motorola, Inc. (Mobile Phone Kitting)

An application has been submitted to the Acting Executive Secretary of the Foreign-Trade Zones Board (the Board) by the Alliance Corridor, Inc., grantee of FTZ 196, requesting temporary/interim manufacturing (T/IM) authority within FTZ 196, at the facilities of Motorola, Inc. (Motorola) located in Fort Worth, Texas. The application was filed on November 28, 2006.

The Motorola facilities (3,800 employees, annual capacity for up to 50 - 60 million mobile phone sets) are located at multiple locations (including those of affiliates and third-party contractors) within Sites 1 and 2 of FTZ 196, and include 4801 Westport Parkway and 15005 Peterson Court, in Fort Worth, Texas. Under T/IM procedures, Motorola has requested authority to process (kit) certain imported components into mobile phone sets (HTSUS 8525.20 - the phones enter the United States duty-free). The company may source the following potentially dutiable components from abroad for processing under T/IM authority, as described in its application: batteries (HTSUS 8507.80), power supplies (HTSUS 8504.40), lithium batteries (HTSUS 8507.30), cables (HTSUS 8544.41), housing assemblies (HTSUS 8529.90), and printed circuit connectors (HTSUS 8536.69). Duty rates on these inputs range from duty-free to 3.4 percent, ad valorem. T/IM authority could be granted for a period of up to two years. Motorola has also submitted a request for permanent FTZ manufacturing authority (for which Board filing is pending), which includes a range of additional inputs.

FTZ T/IM procedures would allow Motorola to elect the finished-product duty rate for the imported components listed above. The application indicates that most of the FTZ savings would result from choosing the duty-free rate on mobile phones for imported batteries (HTSUS 8507.80, duty rate - 3.4%). The company indicates that it would also realize logistical/paperwork savings and duty-deferral savings under FTZ procedures. Motorola's application states that the above-cited savings from zone procedures could help improve the company's international competitiveness.

Public comment is invited from interested parties. Submissions shall be addressed to the Board's Acting Executive Secretary at the following address: Office of the Executive Secretary, Foreign-Trade Zones Board, Room 2814B, U.S. Department of Commerce, 1401 Constitution Avenue, NW, Washington, DC 20230; Tel: (202) 482-2862. The closing period for their receipt is January 8, 2007.

A copy of the application will be available for public inspection at the Office of the Foreign-Trade Zones Board's Executive Secretary at the address listed above.

Dated: November 28, 2006.
Andrew McGilvray,
Acting Executive Secretary.

[FR Doc. E6-20784 Filed 12-6-06; 8:45 am]

BILLING CODE 3510-DS-S